DEPARTMENT OF THE INTERIOR

Bureau of Land Management

[AZ-070-03-1232-EA, AZ-SRP-070-04-01 and AZ-SRP-070-04-02]

Temporary Closure of Selected Public Lands in La Paz County, Arizona, During the Operation of the Parker 250 and Parker 425 Desert Races for 2004

AGENCY: Bureau of Land Management, Interior.

SUMMARY: The Bureau of Land Management Lake Havasu Field Office announces the temporary closure of selected public lands under its administration in La Paz County, Arizona. This action is being taken to help ensure public safety and prevent unnecessary environmental degradation during the officially permitted running of the 2004 KTM Parker 250, and the 2004 Blue Water Resort and Casino Parker 425 Desert Races. Areas subject to this temporary closure include all public lands including county maintained roads and highways located on public lands, that are located within two miles of the designated racecourse. The racecourse and closure areas are described in the SUPPLEMENTARY INFORMATION section of this notice, and maps of the designated racecourse are maintained in the Bureau of Land Management Lake Havasu Field Office, 2610 Sweetwater Avenue, Lake Havasu City, AZ 86406.

Event Dates: KTM Parker 250 on January 10, 2004, and Blue Water Resort and Casino Parker 425 on February 7, 2004.

FOR FURTHER INFORMATION CONTACT: Bryan Pittman, Field Staff Law Enforcement Ranger, BLM Lake Havasu Field Office, 2610 Sweetwater Avenue, Lake Havasu City, Arizona 86406, (928) 505-1200.

Dated: November 7, 2003.
Donald Ellsworth,
Field Manager, Lake Havasu Field Office.

SUPPLEMENTARY INFORMATION:

Description of Race Course Closed Area

Beginning at the eastern boundary of the Colorado River Indian Tribe (CRIT) Reservation, the race course runs east along Shea Road, then east along the Parker-Swansea Road to the Central Arizona Project Canal, then north, on the west side of the CAP Canal, crossing the canal on the maintained county road, running northeast into Mineral Wash Canyon, then southeast staying on the maintained county road, through the 4-corners intersection to Midway, then east on Transmission Pass Road through State Trust lands located in Butler Valley, turning north into Cunningham Wash to North Tank. Back south to the Transmission Pass Road and east (reentering public land) within two miles of Alamo Dam Road. The race course turns south and west onto the wooden power line road, onto the State Trust lands in Butler Valley, turning southwest into Cunningham Wash to the Graham Well, intersecting Butler Valley Road, then north and west onto public lands proceeding west to the “Bouse Y” intersection, located two miles north of Bouse, Arizona. The route then proceeds north, paralleling the Bouse-Midway Road to Midway. From Midway, it goes west on the north boundary road of the East Cactus Plain Wilderness Area to the Parker-Swansea Road. The route then goes west in Osborne Wash, south of the Parker-Swansea Road to the CAP Canal, along the north boundary of the Cactus Plain Wilderness Study Area, staying in Osborne Wash, and then proceeds west in Osborne Wash to the CRIT Reservation boundary.

Times of the Temporary Land Closure

The KTM Parker 250 Desert Race closure is in effect from 2 p.m. (m.s.t.) on Friday, January 9, 2004, through 5 p.m. (m.s.t.) on Saturday, January 10, 2004. The Blue Water Resort and Casino Parker 425 Desert Race closure is in effect from 2 p.m. (m.s.t.) on Friday, February 6, 2004, through 11:59 p.m. (m.s.t.) on Saturday, February 7, 2004.

Prohibited Acts

The following acts are prohibited during the temporary land closure:

1. Being present on, or driving on, the designated racecourse. This does not apply to race participants, race officials and emergency vehicles.

2. Vehicle parking or stopping in areas affected by the closure, except where such is specifically allowed (designated spectator areas).

3. Camping in any area, except in the designated spectator areas.

4. Discharge of firearms.

5. Possession or use of any fireworks.

6. Cutting or collecting firewood of any kind, including dead and down wood or other vegetative material.

7. Operate any vehicle (except registered race vehicles), including off-highway vehicles, not registered and equipped for street and highway operation.

8. Operate any vehicle in the area of the closure at a speed of more than 35 mph. This does not apply to registered race vehicles during the race, while on the designated racecourse.

9. Park any vehicle in violation of posted restrictions.

10. Park any vehicle in a manner that obstructs or impedes normal traffic movement.

11. Drive any vehicle around or past any “road closed” sign or traffic control barrier.

12. Fail to obey any person authorized to direct traffic, including law enforcement officers and designated race officials.

13. Fail to observe Spectator Area quiet hours of 10 p.m. to 6 a.m.

14. Fail to keep campsite or race viewing site free of trash and litter.

15. Allow any pet or other animal to be unrestrained by a leash of not more than 6 feet in length.

The above restrictions do not apply to emergency vehicles and vehicles owned by the United States, the State of Arizona, or La Paz County. Authority for closure of public lands is found in section 303(a) of the Federal Land Policy and Management Act of 1976 (43 U.S.C. 1733(a)) and 43 CFR 8360.0-7. Any person who violates this restriction may be tried before a United States Magistrate and fined no more than $1,000, or imprisoned for no more than 12 months, or both. Such violations may also be subject to the enhanced fines provided for by 18 U.S.C. 3571.

[FR Doc. 03-32237 Filed 12-30-03; 8:45 am]

BILLING CODE 4310-32-P